DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision to the “American Time Use Survey (ATUS).” A copy of the proposed information collection request (ICR) can be obtained by contacting the individual listed below in the Addresses section of this notice.

DATES: Written comments must be submitted to the office listed in the Addresses section of this notice on or before August 30, 2010.

ADDRESSES: Send comments to Carol Rowan, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Carol Rowan, BLS Clearance Officer, at 202-691-7628 (this is not a toll free number). (See ADDRESSES section.)

SUPPLEMENTARY INFORMATION:

I. Background

The ATUS is the Nation's first federally administered, continuous survey on time use in the United States. It measures, for example, time spent with children, working, sleeping, or doing leisure activities. In the United States, several existing Federal surveys collect income and wage data for individuals and families, and analysts often use such measures of material prosperity as proxies for quality of life. Time-use data substantially augment these quality-of-life measures. The data also can be used in conjunction with wage data to evaluate the contribution of non-market work to national economies. This enables comparisons of production between nations that have different mixes of market and non-market activities.

The ATUS develops nationally representative estimates of how people spend their time. Respondents also report who was with them during activities, where they were, how long each activity lasted, and if they were paid. All of this information has numerous practical applications for sociologists, economists, educators, government policymakers, businesspersons, health researchers, and others, potentially answering the following questions:

• Do the ways people use their time vary across demographic and labor force characteristics, such as age, sex, race, ethnicity, employment status, earnings, and education?

• How much time do parents spend in the company of their children, either actively providing care or being with them while socializing, relaxing, or doing other things?

• How are earnings related to leisure time—do those with higher earnings spend more or less time relaxing and socializing?

• Where do people work—at a workplace, in their homes, or someplace else?

The ATUS data are collected on an ongoing, monthly basis, so time series data will eventually become available, allowing analysts to identify changes in how people spend their time.

II. Current Action

Office of Management and Budget clearance is being sought for the ATUS. This survey collects information on how individuals in the United States use their time. Collection is done on a continuous basis with the sample drawn monthly. The survey sample is drawn from households completing their final month of interviews for the Current Population Survey (CPS). Households are selected to ensure a representative demographic sample, and one individual from each household is selected to take part in one Computer Assisted Telephone Interview. In this interview, respondents are asked to report all of their activities for one pre-assigned 24-hour day, which is the day prior to the interview. A short series of summary questions and CPS updates follows the core time diary collection. After each full year of collection, annual national estimates of time use for an average weekday or weekend day are available.

Beginning in January 2011, it is proposed that questions about eldercare be added to the ATUS to replace questions currently asked about missed days. The eldercare questions are designed to collect data on who is providing unpaid eldercare, the time they spend providing this care, and the types of eldercare activities they do. The proposed addition of eldercare questions will be a permanent change to the ATUS. Eldercare is a topic that aligns closely with the ATUS goal of collecting information about time spent in unpaid, productive activities, and it is a topic of interest to researchers, particularly because the U.S. population is aging.

The proposed eldercare questions will replace questions about missed days. The missed-days questions ask respondents for information about the number of days they were away from home in the month before the interview and the reasons why they were away. The data from these questions are under-used and BLS is not aware of any publications that have used them. It is proposed that the missed-days questions be permanently dropped from the survey.

Also beginning in January 2011, questions sponsored by the Department of Labor's Women's Bureau about workers' access to and use of leave are proposed to be added to the ATUS as a Leave module. These questions will be included for 12 months (through December 2011). The questions will ask employed wage and salary workers about their access to paid and unpaid leave, their use of leave in the previous 7 days, and their ability to vary their work schedules instead of taking leave. Data from the Leave module will provide a richer description of work. The data will provide information about the types of leave available to workers, the reasons for which workers are able to take leave, their leave activity, and information about whether workers can adjust their schedules to balance personal and work obligations instead of taking leave. The module will also provide more information about the relationship between workers' use of leave and their use of time.

Because the ATUS sample is a subset of households completing interviews for the CPS, the same demographic information collected from that survey is available for ATUS respondents. Comparisons of activity patterns across characteristics such as sex, race, age, disability status, and education of the respondent, as well as the presence of children and the number of adults living in the respondent's household, are possible.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Revision of a currently approved collection.

Agency: Bureau of Labor Statistics.

Title: American Time Use Survey.

OMB Number: 1220-0175.

Affected Public: Individuals or households.

Total Respondents: 13,200 per year.

Frequency: Monthly.

Total Responses: 13,200.

Average Time Per Response: 16 minutes for the main ATUS interview, with an additional 5 minutes for the proposed Leave module.

Estimated Total Burden Hours: 3,520 hours per year for the main ATUS and 4,620 hours per year when the Leave module is included.

Total Burden Cost (capital/startup): $0.

Total Burden Cost (operating/maintenance): $0.

Comments submitted in response to this notice will be summarized and/or included in the request for Office of Management and Budget approval of the information collection request; they also will become a matter of public record.

Signed at Washington, DC, this 24th day of June 2010.
Kimberley Hill,
Chief, Division of Management Systems, Bureau of Labor Statistics.

[FR Doc. 2010-15865 Filed 6-29-10; 8:45 am]

BILLING CODE 4510-24-P